DEPARTMENT OF JUSTICE

Notice of Lodging Proposed Consent Decree

In accordance with Departmental Policy, 28 CFR 50.7, notice is hereby given that a proposed consent decree in United States v. Specialty Minerals, Inc., John J. Foley, Jr. and Dorothy K. Foley, Civil Action No. 3:01CV1853 (RNC) (D. Conn.), was lodged with the United States District Court for the District of Connecticut on October 3, 2001. This proposed Consent Decree concerns a complaint filed by the United States against Specialty Minerals, Inc., John J. Foley, Jr. and Dorothy K. Foley, pursuant to sections 301(a) and 404 of the Clean Water Act, 33 U.S.C. 1311(a) and 1344, and imposes civil penalties against Defendant, Specialty Minerals, Inc., for the unauthorized discharge of dredged or fill material into waters of the United States located in wetlands adjacent to a tributary of Blackberry River, located in North Canaan, Connecticut.

The proposed Consent Decree requires the payment of civil penalties, in addition to the performance of onsite mitigation and partial restoration at the site of the violation.

The Department of Justice will accept written comments relating to this proposed Consent Decree for thirty (30) days from the of publication of this notice. Please address comments to Brenda M. Green, Assistant United States Attorney, United States Attorney's Office, 157 Church Street, 23rd Floor, New Haven, Connecticut 06510 and refer to United States v. Specialty Minerals, Inc., John J. Foley, Jr. and Dorothy K. Foley, DJ#90-5-1-1-05702.

The proposed Consent Decree may be examined at the Clerk's Office, United States District Court for the District of Connecticut, 141 Church Street, New Haven, Connecticut 06510.

Brenda M. Green,
Assistant U.S. Attorney, U.S. Attorney's Office, 157 Church Street, 23rd Floor, New Haven, CT 06510, (203) 821-3700.

[FR Doc. 02-275 Filed 1-4-02; 8:45 am]

BILLING CODE 4410-15-M